FEDERAL COMMUNICATIONS COMMISSION

[DA 19-193]

Media Bureau Lifts LPTV and TV Translator Application Filing Freezes Effective April 18, 2019

AGENCY: Federal Communications Commission.

ACTION: Notice.

SUMMARY: This document announces that, effective April 18, 2019, the Media Bureau is lifting the displacement and digital companion channel application filing freezes related to low power television and TV translator stations.

DATES: The filing freezes will be lifted effective April 18, 2019.

FOR FURTHER INFORMATION CONTACT: Shaun Maher, Video Division, Media Bureau, Federal Communications Commission, Shaun.Maher@fcc.gov, (202) 418-2324.

SUPPLEMENTARY INFORMATION: The Media Bureau announces that, effective April 18, 2019, it is lifting the displacement and digital companion channel application filing freezes related to low power television and TV translator stations (LPTV/translator stations). These freezes were imposed to preserve channels for the window for LPTV/translator stations displaced by the Incentive Auction to file displacement applications (Special Displacement Window or Window). The displacement freeze was temporarily lifted to accommodate the filing of displacement applications by licensed LPTV/translator stations which were displaced by Incentive Auction matters in the Special Displacement Window. With completion of the Special Displacement Window on June 1, 2018, and post-Window settlement opportunity on January 10, 2019, the Media Bureau deems it appropriate to now lift these filing freezes. Interested parties may resume filing of the below-referenced applications on a first-come, first-serve basis on April 18, 2019.

Displacement Applications. The freeze on the filing of displacement applications, enacted in 2014, is lifted effective April 18, 2019.

Digital Companion Channels. The freeze on the filing of applications of for digital companion channels, enacted in 2017, is lifted effective April 18, 2019.

The freeze on the filing of applications for new LPTV/translator digital stations and major changes remains in effect.

This action is taken by the Chief, Media Bureau pursuant to authority delegated by 47 CFR 0.283 of the Commission's rules.

Federal Communications Commission.
Barbara Kreisman,
Chief, Video Division, Media Bureau.

[FR Doc. 2019-06362 Filed 4-1-19; 8:45 am]

BILLING CODE 6712-01-P